DEPARTMENT OF HOMELAND SECURITY

Coast Guard

33 CFR Part 151

[Docket No. USCG-2012-0924]

RIN 1625-AB68

Ballast Water Management Reporting and Recordkeeping

AGENCY: Coast Guard, DHS.

ACTION: Final rule; information collection approval.

SUMMARY: The Coast Guard announces that it has received approval from the Office of Management and Budget for an information collection request associated with ballast water management reporting and recordkeeping requirements in a final rule we published in the Federal Register on November 24, 2015. In that rule, we stated we would publish a document in the Federal Register announcing the effective date of the collection-of-information related sections. This rule establishes February 22, 2016, as the effective date for those sections.

DATES: The amendments to §§ 151.2060(b) through (f) and 151.2070, published November 24, 2015 (80 FR 73105), are effective February 22, 2016.

FOR FURTHER INFORMATION CONTACT: If you have questions on this rule, call or email Ms. Regina Bergner, Environmental Standards Division (CG-OES-3), U.S. Coast Guard; telephone 202-372-1431, email Regina.R.Bergner@uscg.mil.

SUPPLEMENTARY INFORMATION:

Viewing Documents Associated With This Rule

To view the final rule published on November 24, 2015 (80 FR 73105), or other documents in the docket for this rulemaking, go to www.regulations.gov, type the docket number, USCG-2012-0924, in the “SEARCH” box and click “SEARCH.” Click on “Open Docket Folder” in the first item listed. Use the following link to go directly to the docket: http://www.regulations.gov/#!docketDetail;D=USCG-2012-0924.

Background

On November 24, 2015, the Coast Guard published a final rule that amends the ballast water management reporting and recordkeeping requirements. 80 FR 73105. The final rule delayed the effective date of 33 CFR 151.2060(b) through (f) and § 151.2070 because these sections contain collection-of-information provisions that require approval by the Office of Management and Budget (OMB) under the Paperwork Reduction Act of 1995, 44 U.S.C. 3501-3520. On December 4, 2015, the OMB approved the collection assigned OMB Control Number 1625-0069, Ballast Water Management for Vessels with Ballast Tanks Entering U.S. Waters. Accordingly, we announce that 33 CFR 151.2060(b) through (f) and 151.2070 are effective February 22, 2016. The approval for this collection of information expires on December 31, 2018.

This document is issued under the authority of 33 U.S.C. 1231.

Dated: December 30, 2015.
J.G. Lantz,
Director of Commercial Regulations and Standards, U.S. Coast Guard.

[FR Doc. 2015-33137 Filed 1-4-16; 8:45 am]

BILLING CODE 9110-04-P